DEPARTMENT OF COMMERCE

National Oceanic and Atmospheric Administration

[RTID 0648-XX017]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an application submitted by the Cape Cod Commercial Fishermen's Alliance for an exempted fishing permit contains all of the required information and warrants further consideration. This exempted fishing permit would allow two commercial fishing vessels participating in an electronic monitoring program to fish in the Southern New England Regulated Mesh Area with a 6-inch (15.24 cm) diamond mesh codend. Regulations under the Magnuson-Stevens Fishery Conservation and Management Act require publication of this notification to provide interested parties the opportunity to comment on applications for proposed exempted fishing permits.

DATES: Comments must be received on or before November 5, 2019.

ADDRESSES: You may submit written comments by either of the following methods:

• Email: nmfs.gar.efp@noaa.gov. Include in the subject line “6-INCH MESH CODEND EM EFP.”

• Mail: Michael Pentony, Regional Administrator, NMFS, Greater Atlantic Regional Fisheries Office, 55 Great Republic Drive, Gloucester, MA 01930. Mark the outside of the envelope “6-INCH MESH CODEND EM EFP.”

FOR FURTHER INFORMATION CONTACT: Spencer Talmage, Fishery Management Specialist, 978-281-9232.

SUPPLEMENTARY INFORMATION: On May 1, 2019, NMFS granted an exempted fishing permit (EFP) to the Cape Cod Commercial Fishermen's Alliance, in partnership with The Nature Conservancy, the Maine Coast Fishermen's Association, the Gulf of Maine Research Institute, and fishermen to participate in an audit-model EM program for the groundfish fishery. Fifteen vessels using a variety of gear types (e.g., hook, benthic longline, sink gillnet, bottom trawl) are participating in the project.

Vessels participating in this EFP are required to use EM on 100 percent of groundfish trips. Camera systems are used in lieu of human at-sea monitors, and in addition to Northeast Fishery Observer Program (NEFOP) observers. Vessels must adhere to a vessel-specific monitoring plan detailing at-sea catch handling protocols. Vessels also submit haul-level electronic vessel trip reports (eVTR) with count and weight estimates for all groundfish discards.

The Alliance subsequently requested an exemption from the 6.5-inch (15.24 cm) minimum mesh size. This exemption request was treated as a separate EFP application, rather than an amendment to the audit model EM EFP. The requested EFP would allow two trawl vessels participating in the EM program to outfit their commercial otter trawl nets with 6-inch diamond mesh codends, in order to facilitate catch of haddock, reduce bycatch of flatfish species, and test the feasibility of EM programs as a data collection tool for research. There would be no other modifications to the trawl gear. This EFP would exempt vessels from the codend minimum mesh size restriction in the Southern New England Regulated Mesh Area found at 50 CFR 648.80(b)(2)(i). While fishing on this EFP the participating vessels would also be participating in the audit-model EM EFP. They would continue to be required to use EM systems on 100 percent of groundfish trips and adhere to vessel-specific monitoring plans. Existing catch accounting, video review, and other EM protocols would remain in effect for these operations.

Participating vessels would conduct commercial fishing with the small mesh codend in Southern New England (SNE), specifically statistical areas 537, 539, 611, and 613. The application estimates that each of the two vessels participating with the exemption from minimum codend mesh size would take 35 day-trips during the project. The EFP would be active from January to April 2019. Of the 35 trips that each vessel plans to take during that time period, the number of trips taken with a 6-inch mesh codend under the proposed EFP would vary, based on the presence of haddock, the target species for the project. On EFP trips, four to five hauls would be made per day, with each tow length averaging 2 to 3 hours. While on these trips, vessels may switch back to a standard 6.5-inch mesh codend to retain operational flexibility.

The applicant states that a switch from a 6.5-inch square mesh codend to the 6-inch diamond mesh codend would improve catch of haddock, a healthy stock, while reducing catch of several flounder species. Based on a codend mesh selectivity study which compared retention length and size selection range for 6.5- and 6-inch square and diamond mesh, the applicant additionally states that 6-inch diamond mesh is unlikely to retain undersized haddock.

Additionally, the Alliance would compare the discard data collected from trips taken by vessels fishing with a 6-inch diamond mesh codend to trips with the standard 6.5-inch mesh codend. The Alliance states that this comparison would also demonstrate the usefulness of EM systems as tools for research.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 16, 2019.
Jennifer M. Wallace,
Acting Director, Office of Sustainable Fisheries, National Marine Fisheries Service.

[FR Doc. 2019-22854 Filed 10-18-19; 8:45 am]

BILLING CODE 3510-22-P